NATIONAL AERONAUTICS AND SPACE ADMINISTRATION

[Notice: (15-052)]

NASA Advisory Council; Aeronautics Committee Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council (NAC). This Committee reports to the NAC. The meeting will be held for the purpose of soliciting, from the aeronautics community and other persons, research and technical information relevant to program planning.

DATES: Tuesday, July 28, 2015, 9:00 a.m.-5:00 p.m., Local Time.

ADDRESSES: Jet Propulsion Laboratory, Building 180, Room 703C, 4800 Oak Grove Drive, Pasadena, CA 91109.

FOR FURTHER INFORMATION CONTACT: Ms. Brenda L. Mulac, Executive Secretary for the NAC Aeronautics Committee, NASA Headquarters, Washington, DC 20546, phone number 202-358-1578, or brenda.l.mulac@nasa.gov.

SUPPLEMENTARY INFORMATION: The meeting will be open to the public up to the seating capacity of the room. This meeting is also available telephonically and by WebEx. You must use a touch-tone phone to participate in this meeting. Any person interested in participating in the meeting by telephone and WebEx should contact Ms. Brenda L. Mulac at 202-358-1578 for the web link, toll-free number and passcode. The agenda for the meeting includes the following topics:

• Shadow Mode Assessment of Realistic Technologies for the National Airspace System (SMART-NAS) for Safe Trajectory Based Operations (TBO)

• National Research Council (NRC) Low Carbon Study

• Global Air Traffic Management

Attendees will be required sign a register and to comply with Jet Propulsion Laboratory (JPL) security requirements including presentation of a valid picture ID (such as a driver's license for U.S. Citizens; Permanent Resident green card; or passport/visa for non-U.S. Citizens) before receiving admittance to JPL. Due to the Real ID Act, Public Law 109-13, any attendees with driver's licenses issued from non-compliant states/territories must present a second form of identification: [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Individuals without proper identification will not be admitted to the JPL. Members of the public interested in attending this meeting must contact Ms. Helen N. Paley of JPL at phone number 818-354-6427 or helen.n.paley@jpl.nasa.gov to receive a listing of the information required prior to admittance to JPL. Completed information spreadsheet must be emailed to Ms. Paley by no later than Friday, July 17, 2015. It is imperative that this meeting be held on these dates to accommodate the scheduling priorities of the key participants.

Patricia D. Rausch,
Advisory Committee Management Officer, National Aeronautics and Space Administration.

[FR Doc. 2015-16825 Filed 7-9-15; 8:45 am]

BILLING CODE 7510-13-P